DEPARTMENT OF ENERGY

Federal Energy Regulatory Commission

[Docket No. CP09-6-000]

LNG Development Company, LLC.; Notice of Technical Conference

January 16, 2009.

On Wednesday, February 4, 2009, at 10 a.m. (PST), staff of the Office of Energy Projects will convene an engineering design and technical conference (cryogenic conference) regarding the proposed Oregon LNG import terminal. The conference will be held at the Holiday Inn Express Hotel & Suites, in Astoria, Oregon. The hotel is located at 204 West Marine Drive, Astoria, OR 97103. For hotel details call (503) 325-6222.

The conference will review the design of the LNG storage tanks and facility, instrumentation and controls, hazard detection and controls, spill containment, geotechnical topics, and other issues related to the operation of the proposed facility. Issues related to environmental impacts and LNG vessel transit are outside the scope of the conference.

In view of the nature of critical energy infrastructure information and security issues to be explored, the cryogenic conference will not be open to the public. Attendance at this conference will be limited to existing parties to the proceeding (anyone who has specifically requested to intervene as a party) and to representatives of interested federal, state, and local agencies. Any person planning to attend the February 4th cryogenic conference must register by close of business on Monday, February 2, 2009. Registrations may be submitted either online at http://www.ferc.gov/whats-new/registration/cryo-conf-form.asp or by faxing a copy of the form (found at the referenced online link) to 202-208-0353. All attendees must sign a non-disclosure statement prior to entering the conference. Upon arrival at the hotel, check the reader board in the hotel lobby for venue. For additional information regarding the cryogenic conference, please contact Ghanshyam Patel at 202-502-6431.

Kimberly D. Bose,
Secretary.

[FR Doc. E9-1770 Filed 1-27-09; 8:45 am]

BILLING CODE 6717-01-P